DEPARTMENT OF AGRICULTURE

Forest Service

36 CFR Part 294

Idaho Roadless Rule

AGENCY: Forest Service, USDA.

ACTION: Final administrative correction.

SUMMARY: The Forest Service, U.S. Department of Agriculture (USDA), is issuing administrative corrections affecting Big Creek Fringe, French Creek, Placer Creek, Secesh, and Smith Creek Idaho Roadless Areas on the Payette National Forest. These corrections remedy clerical errors relating to regulatory classifications involving two Forest Plan Special Areas (Big Creek and French Creek) and a mapping error. These corrections are made pursuant to 36 CFR 294.27(a).

DATES: This correction is effective March 29, 2011.

FOR FURTHER INFORMATION CONTACT: Idaho Roadless Coordinator Joan Dickerson at 406-329-3314. Additional information concerning these administrative corrections, including the corrected maps, may be obtained on the Internet at http://roadless.fs.fed.us. Individuals who use telecommunication devices for the deaf (TDD) may call the Federal Information Relay Service (FIRS) at 1-800-877-8339 between 8 a.m. and 8 p.m., Eastern Standard Time, Monday through Friday.

SUPPLEMENTARY INFORMATION: The Idaho Roadless Rule authorizes administrative corrections to the maps of lands identified in 36 CFR 294.22(c), including but not limited to, adjustment that remedy clerical errors, typographical errors, mapping errors, or improvements in mapping technology. The Chief may issue administrative corrections after a 30-day public notice and opportunity to comment.

The Agency presented the corrections to the State of Idaho's Roadless Rule Advisory Commission on September 28, 2010. The Commission recommended to the Governor of Idaho that the corrections be made and that the Agency contact the Valley County Commissioners. The Valley County Commissioners supported the corrections.

The Agency requested comment and/or met with the Shoshone-Paiute Tribes of Duck Valley, the Shoshone-Bannock Tribes of Fort Hall, and the Nez Perce Tribe. No comments or concerns from the Tribes were received.

Consideration of Comments

The Chief provided a 30-day public notice and opportunity to comment (75 FR 54542). A total of 13 comments were received from 9 individuals.

Two respondents were concerned about the original classification of lands in the Big Creek Fringe, Placer Creek, Secesh and French Creek Roadless Areas. In addition these respondents were concerned about the original mapping of these roadless areas and felt the boundaries of the roadless areas should be modified to exclude existing disturbances (past harvesting and roads). These corrections only address the technical regulatory classification and mapping errors. The decisions on how to classify the management themes and the boundaries were made during the original rulemaking and are not being reassessed.

Two respondents were concerned about travel planning, and other projects and activities on the Payette National Forest. These activities are outside the scope of the technical corrections assessed in this rulemaking. The comments have been forwarded to the Payette National Forest for their consideration.

Two respondents were concerned about the maps provided for the corrections. They felt the maps were inadequate and lacked the necessary detail to understand the corrections. The maps posted on the Internet on September 8, 2010, were adequate to identify the proposed changes to each roadless area. However, in response to comments received, additional maps showing greater detail were posted on September 14, 2010. These maps show the roadless area corrections in relation to key points of interest (mountains, towns, main roads, etc).

One respondent felt an Environmental Impact Statement (EIS) was warranted for the change, and another felt some level of effects analysis should be done. An EIS is not warranted for these errata corrections. The corrections have no effect on the analysis presented in the Roadless Area Conservation, National Forest System Lands in Idaho Final EIS and are simply technical corrections of labeling and mapping errors made in promulgation of the Idaho Roadless Rule. The corrections result in a net increase of 577 acres (600 acres rounded) in the Backcountry Restoration theme for a total of 5,313,500 acres of Backcountry/Restoration over all Idaho Roadless Areas. This is less than 0.01 percent change in the management classification. Site-specific analysis, including public involvement will be conducted for any future projects proposed in areas reclassified to Backcountry/Restoration.

Questions were received concerning the correction for private land. The correction aligns the roadless boundary with the private land boundary. This was a mapping error which did not align (edge match) the roadless boundary with private land; this reduced the roadless area by 3 acres. Only National Forest System lands are included in the Roadless Area.

One respondent identified two of typographical errors made in the Federal Register Notice. (1) Correction regarding French Creek. On page 54543, the Federal Register said “moving 1,000 acres of Forest Plan Special Area to Backcountry Restoration”. The respondent noted that the proposed correction should have stated “1,000 acres of Backcountry Restoration would be moved to a Forest Plan Special Area”. (2) On page 54543 for French Creek the township should be changed from Township 22N to Township 23N. These edits have been made.

Four respondents, the Governor's Commission, and Valley County Commissioners supported the corrections or did not have significant concerns with the proposed changes. These comments are noted.

Corrections Regarding Big Creek

The Idaho Roadless Rule and associated maps mistakenly identify Big Creek as a Forest Plan Special Area (Wild and Scenic River). During the Idaho rulemaking, Forest Plan Special Areas were identified where the management is governed by specific Agency directives and forest plan direction. The 2003 Southwest Idaho Ecogroup Land and Resource Management Plan Final Environmental Impact Statement (FEIS) included an eligibility study for Big Creek. The Agency's Record of Decision found Big Creek in-eligible for Wild and Scenic River designation. As the Payette Forest Plan did not establish a special management area, the Idaho rulemaking and associated maps are now conformed to remove this erroneous classification. These corrections occur in T20N, R8E, sections 13-14 and 22-24; T20N, R9E, sections 2-3, 10, 15, and 17-18; T21N, R9E, sections 13, 23-24, 26, and 34-36, Boise Meridian.

The four corrections concerning Big Creek are as follows:

• Big Creek Fringe Idaho Roadless Area: 365 acres of Forest Plan Special Area are changed to Backcountry/Restoration; and the boundary of the roadless area is aligned with the private land boundary decreasing the roadless area by 3 acres. The Forest Plan Special Area classification is removed in the rule.

• Placer Creek Idaho Roadless Area: 98 acres of Forest Plan Special Area are changed to Backcountry/Restoration; and 14 acres of Forest Plan Special Area are changed to Primitive. The Forest Plan Special Area classification is removed in the rule.

• Secesh Idaho Roadless Area: 1,086 acres of the 11,630 acre Forest Plan Special Area is changed to Backcountry/Restoration.

• Smith Creek Roadless Area: 14 acres of Forest Plan Special Area is changed to Primitive.

Correction Regarding French Creek

The Idaho Roadless Rule erroneously did not identify an existing Forest Plan Special Area for the Lake Creek Wild and Scenic River Corridor in the French Creek Idaho Roadless Area. The 2003 Southwest Idaho Ecogroup Land and Resource Management Plan Final Environmental Impact Statement included a suitability study for the Secesh River, including Lake Creek. The Record of Decision found the Secesh River, including Lake Creek, eligible for Wild and Scenic River designation and the Payette National Forest Land and Resource Management Plan established a Special Management Area.

The associated maps have been corrected for this area. The correction moves 1,000 acres of Backcountry/Restoration to Forest Plan Special Area and occurs in T23N, R4E, sections 10, 15, 22, 26-27, and 35, Boise Meridian.

List of Subjects in 36 CFR Part 294

National Forests, Navigation (air), Recreation areas, State petitions for inventoried roadless area management.

For the reasons set forth in the preamble, part 294 of Title 36 of the Code of Federal Regulations is amended as follows:

PART 294—SPECIAL AREAS

Subpart C—Idaho Roadless Area Management

1. The authority citation for subpart C continues to read as follows:

Authority: 16 U.S.C. 472, 529, 551, 1608, 1613; 23 U.S.C. 201, 205.

2. Amend the table in § 294.29 by revising the entries for Big Creek Fringe and Placer Creek in Payette National Forest to read as follows:

§ 294.29 [Amended]

* * * * *

Forest | Idaho roadless area | Number | WLR | Primitive | BCR | GFRG | SAHTS | FPSA
* * * * * * *
Payette | Big Creek Fringe | 009 |  |  | X |  |  |
* * * * * * *
Payette | Placer Creek | 008 |  | X | X |  |  |
* * * * * * *

Dated: March 22, 2011.
Thomas L. Tidwell,
Chief, U.S. Forest Service.

[FR Doc. 2011-7247 Filed 3-28-11; 8:45 am]

BILLING CODE 3410-11-P